DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (https://ofac.treasury.gov).

Notice of OFAC Actions

On July 12, 2023, OFAC determined that the property and interests in property subject to U.S. jurisdiction of the following persons are blocked under the relevant sanctions authority listed below.

Individuals

1. PEREZ SALAS, Nestor Isidro (a.k.a. “Chicken Little”; a.k.a. “GARCIA, Nestor Isidro”; a.k.a. “Nini”), Mexico; DOB 09 Mar 1992; POB Baja California, Mexico; nationality Mexico; Gender Male; C.U.R.P. PESN920309HBCRLS03 (Mexico) (individual) [ILLICIT-DRUGS-EO14059].

Designated pursuant to section 1(a)(i) of Executive Order 14059 of December 15, 2021, “Imposing Sanctions on Foreign Persons Involved in the Global Illicit Drug Trade,” 86 FR 71549 (December 17, 2021) (E.O. 14059) for having engaged in, or attempted to engage in, activities or transactions that have materially contributed to, or pose a significant risk of materially contributing to, the international proliferation of illicit drugs or their means of production.

2. LIMON ELENES, Jeuri (a.k.a. “Fox”; a.k.a. “Prude”; a.k.a. “Royal Nuevo”; a.k.a. “Rzr”), Mexico; DOB 28 Apr 1976; POB Sinaloa, Mexico; nationality Mexico; Gender Male; C.U.R.P. LIEJ760428HSLMLR02 (Mexico) (individual) [ILLICIT-DRUGS-EO14059].

Designated pursuant to section 1(a)(i) of Executive Order 14059 of December 15, 2021, “Imposing Sanctions on Foreign Persons Involved in the Global Illicit Drug Trade,” 86 FR 71549 (December 17, 2021) (E.O. 14059) for having engaged in, or attempted to engage in, activities or transactions that have materially contributed to, or pose a significant risk of materially contributing to, the international proliferation of illicit drugs or their means of production.

3. LOPEZ PEREZ, Noel, Mexico; DOB 21 May 1980; POB Sinaloa, Mexico; nationality Mexico; Gender Male; C.U.R.P. LOPN800521HSLPRL00 (Mexico) (individual) [ILLICIT-DRUGS-EO14059].

Designated pursuant to section 1(a)(i) of Executive Order 14059 of December 15, 2021, “Imposing Sanctions on Foreign Persons Involved in the Global Illicit Drug Trade,” 86 FR 71549 (December 17, 2021) (E.O. 14059) for having engaged in, or attempted to engage in, activities or transactions that have materially contributed to, or pose a significant risk of materially contributing to, the international proliferation of illicit drugs or their means of production.

4. PAEZ LOPEZ, Ricardo, Mexico; DOB 02 Oct 1992; POB Sinaloa, Mexico; nationality Mexico; Gender Male; C.U.R.P. PALR921002HSLZPC09 (Mexico) (individual) [ILLICIT-DRUGS-EO14059].

Designated pursuant to section 1(a)(i) of Executive Order 14059 of December 15, 2021, “Imposing Sanctions on Foreign Persons Involved in the Global Illicit Drug Trade,” 86 FR 71549 (December 17, 2021) (E.O. 14059) for having engaged in, or attempted to engage in, activities or transactions that have materially contributed to, or pose a significant risk of materially contributing to, the international proliferation of illicit drugs or their means of production.

5. ZAMUDIO LERMA, Daniel, Mexico; DOB 07 Sep 1968; POB Sinaloa, Mexico; nationality Mexico; Gender Male; C.U.R.P. ZALD680907HSLMRN05 (Mexico) (individual) [ILLICIT-DRUGS-EO14059].

Designated pursuant to section 1(b)(ii) of Executive Order 14059 of December 15, 2021, “Imposing Sanctions on Foreign Persons Involved in the Global Illicit Drug Trade,” 86 FR 71549 (December 17, 2021) (E.O. 14059) for being or having been a leader or official of a person sanctioned pursuant to E.O. 14059.

6. ZAMUDIO LERMA, Jorge Alberto, Mexico; DOB 29 Jan 1967; POB Sinaloa, Mexico; nationality Mexico; Gender Male; C.U.R.P. ZALJ670129HSLMRR03 (Mexico) (individual) [ILLICIT-DRUGS-EO14059].

Designated pursuant to section 1(b)(ii) of Executive Order 14059 of December 15, 2021, “Imposing Sanctions on Foreign Persons Involved in the Global Illicit Drug Trade,” 86 FR 71549 (December 17, 2021) (E.O. 14059) for being or having been a leader or official of a person sanctioned pursuant to E.O. 14059.

7. ZAMUDIO LERMA, Angel Guillermo, Mexico; DOB 17 Nov 1969; POB Sinaloa, Mexico; nationality Mexico; Gender Male; C.U.R.P. ZALA691117HSLMRN03 (Mexico) (individual) [ILLICIT-DRUGS-EO14059].

Designated pursuant to section 1(b)(ii) of Executive Order 14059 of December 15, 2021, “Imposing Sanctions on Foreign Persons Involved in the Global Illicit Drug Trade,” 86 FR 71549 (December 17, 2021) (E.O. 14059) for being or having been a leader or official of a person sanctioned pursuant to E.O. 14059.

8. DE LEON BECERRA, Eliseo, Calle 16 de Septiembre 109, Int. 5, San Jeronimo Chicahualco, Metepec, Estado de Mexico, Mexico; DOB 04 Nov 1989; POB Toluca, Mexico; nationality Mexico; Gender Male; C.U.R.P. LEBE891104HMCNCL02 (Mexico) (individual) [ILLICIT-DRUGS-EO14059].

Designated pursuant to section 1(b)(ii) of Executive Order 14059 of December 15, 2021, “Imposing Sanctions on Foreign Persons Involved in the Global Illicit Drug Trade,” 86 FR 71549 (December 17, 2021) (E.O. 14059) for being or having been a leader or official of a person sanctioned pursuant to E.O. 14059.

9. VALDEZ FERNANDEZ, Dora Vanessa, Fray Bernardino de Sahagun 3198, Culiacan, Sinaloa 80240, Mexico; Benito Juarez 820, Culiacan, Sinaloa 80000, Mexico; DOB 08 Nov 1972; POB Durango, Mexico; nationality Mexico; Gender Female; C.U.R.P. VAFD721108MDGLRR06 (Mexico) (individual) [ILLICIT-DRUGS-EO14059].

Designated pursuant to section 1(a)(i) of Executive Order 14059 of December 15, 2021, “Imposing Sanctions on Foreign Persons Involved in the Global Illicit Drug Trade,” 86 FR 71549 (December 17, 2021) (E.O. 14059) for having engaged in, or attempted to engage in, activities or transactions that have materially contributed to, or pose a significant risk of materially contributing to, the international proliferation of illicit drugs or their means of production.

10. MEDINA GONZALEZ, Oscar Noe (a.k.a. “El Panu”; a.k.a. “Pan”; a.k.a. “Panu”), Mexico; DOB 11 May 1983; POB Sinaloa, Mexico; nationality Mexico; Gender Male; C.U.R.P. MEGO830511HSLDNS01 (Mexico) (individual) [ILLICIT-DRUGS-EO14059].

Designated pursuant to section 1(a)(i) of Executive Order 14059 of December 15, 2021, “Imposing Sanctions on Foreign Persons Involved in the Global Illicit Drug Trade,” 86 FR 71549 (December 17, 2021) (E.O. 14059) for having engaged in, or attempted to engage in, activities or transactions that have materially contributed to, or pose a significant risk of materially contributing to, the international proliferation of illicit drugs or their means of production.

Entity

11. REI COMPANIA INTERNACIONAL, S.A. DE C.V. (a.k.a. REI COMPANIA INTERNATIONAL, S.A. DE C.V.), Avenida Tecnologico Norte 735, Metepec, Estado de Mexico C.P. 52172, Mexico; Metepec, Estado de Mexico, Mexico; Organization Established Date 26 Jul 2019; R.F.C. RIN190726CM3 (Mexico); Folio Mercantil No. N-2019064854 (Mexico) [ILLICIT-DRUGS-EO14059].

Designated pursuant to section 1(a)(i) of Executive Order 14059 of December 15, 2021, “Imposing Sanctions on Foreign Persons Involved in the Global Illicit Drug Trade,” 86 FR 71549 (December 17, 2021) (E.O. 14059) for having engaged in, or attempted to engage in, activities or transactions that have materially contributed to, or pose a significant risk of materially contributing to, the international proliferation of illicit drugs or their means of production.

Dated: July 12, 2023.
Andrea M. Gacki,
Director, Office of Foreign Assets Control, U.S. Department of the Treasury.

[FR Doc. 2023-15034 Filed 7-14-23; 8:45 am]

BILLING CODE 4810-AL-P